DEPARTMENT OF AGRICULTURE

Animal and Plant Health Inspection Service

[Docket No. APHIS-2015-0099]

Availability of an Environmental Assessment and Finding of No Significant Impact for the Biological Control of Cape-Ivy

AGENCY: Animal and Plant Health Inspection Service, USDA.

ACTION: Notice.

SUMMARY: We are advising the public that the Animal and Plant Health Inspection Service has prepared a final environmental assessment and finding of no significant impact relative to the field release of a gall-forming fly, Parafreutreta regalis, into the continental United States for the use as a biological control agent to reduce the severity of Cape-ivy, Delairea odorata. Based on the finding of no significant impact, we have determined that an environmental impact statement need not be prepared.

FOR FURTHER INFORMATION CONTACT: Mr. Robert Tichenor, Plant Health Programs, PPQ, APHIS, 4700 River Road Unit 133, Riverdale, MD 20737-1231; (301) 851-2198.

SUPPLEMENTARY INFORMATION: Cape-ivy (Delairea odorata), a native of South Africa, has become one of the most pervasive non-native plants to invade the coastal west region of the United States, particularly in California and Oregon. Cape-ivy is a weedy vine that prefers moist, partly-shaded environments along the Pacific coast; however, there are reports of infestations at inland riparian locations. Fragments of the plant easily root, which facilitates the spread of this invasive plant. Overgrowth of Cape-ivy, a climbing vine, causes native plants to die. The Animal and Plant Health Inspection Service (APHIS) is proposing to issue permits for the field release of a gall-forming fly, Parafreutreta regalis, into the continental United States to reduce the severity of Cape-ivy infestations.

On March 24, 2016, we published in the Federal Register (81 FR 15679-15680, Docket No. APHIS-2015-0099) a notice ¹ in which we announced the availability, for public review and comment, of an environmental assessment (EA) that examined the potential environmental impacts associated with the proposed release of P. regalis into the continental United States.

¹ To view the notice, the comments we received, the final EA, and the FONSI, go to http://www.regulations.gov/#!docketDetail;D=APHIS-2015-0099.

We solicited comments on the EA for 30 days ending April 25, 2016. We received 23 comments by that date. The comments were from a State native plant society, plant preservation entities, State departments of agriculture, an organization of State plant regulatory agencies, and private citizens. Twenty-two commenters supported this action.

One commenter raised a concern about the possibility of P. regalis being introduced to Hawaii by airplanes commuting from California to Hawaii and asked whether we considered the biological risks associated with the release of P. regalis in Hawaii. We have prepared a response to this specific concern in an appendix to the final EA.

In this document, we are advising the public of our finding of no significant impact (FONSI) regarding the release of P. regalis into the continental United States for use as a biological control agent for Cape-ivy. The finding, which is based on the final EA, reflects our determination that release of this biological control agent will not have a significant impact on the quality of the human environment.

The final EA and FONSI may be viewed on Regulations.gov Web site (see footnote 1). Copies of the EA and FONSI are also available for public inspection at USDA, Room 1141, South Building, 14th Street and Independence Avenue SW., Washington, DC, between 8 a.m. and 4:30 p.m., Monday through Friday, except holidays. Persons wishing to inspect copies are requested to call ahead to (202) 799-7039 to facilitate entry into the reading room. In addition, copies may be obtained by calling or writing to the individual listed under FOR FURTHER INFORMATION CONTACT.

The EA and FONSI have been prepared in accordance with: (1) The National Environmental Policy Act of 1969 (NEPA), as amended (42 U.S.C. 4321 et seq.); (2) regulations of the Council on Environmental Quality for implementing the procedural provisions of NEPA (40 CFR parts 1500-1508); (3) USDA regulations implementing NEPA (7 CFR part 1b); and (4) APHIS' NEPA Implementing Procedures (7 CFR part 372).

Done in Washington, DC, this 8th day of July 2016.
Kevin Shea,
Administrator, Animal and Plant Health Inspection Service.

[FR Doc. 2016-16624 Filed 7-13-16; 8:45 am]

BILLING CODE 3410-34-P